DEPARTMENT OF COMMERCE

Foreign-Trade Zones Board

[B-35-2023]

Foreign-Trade Zone (FTZ) 207; Authorization of Production Activity; LEGO Manufacturing Richmond, Inc. (LEGO® Bricks and Toy Sets), Chester and Colonial Heights, Virginia

On May 24, 2023, the LEGO Group submitted a notification of proposed production activity to the FTZ Board on behalf of LEGO Manufacturing Richmond, Inc., within FTZ 207, for its facilities in Chester and Colonial Heights, Virginia.

The notification was processed in accordance with the regulations of the FTZ Board (15 CFR part 400), including notice in the Federal Register inviting public comment (88 FR 35832, June 1, 2023). On September 21, 2023, the applicant was notified of the FTZ Board's decision that no further review of the activity is warranted at this time. The production activity described in the notification was authorized, subject to the FTZ Act and the FTZ Board's regulations, including section 400.14.

Dated: September 21, 2023.
Elizabeth Whiteman,
Executive Secretary.

[FR Doc. 2023-20885 Filed 9-25-23; 8:45 am]

BILLING CODE 3510-DS-P